DEPARTMENT OF HEALTH AND HUMAN SERVICES

Centers for Disease Control and Prevention

National Center for Environmental Health/Agency for Toxic Substances and Disease Registry

The Program Peer Review Subcommittee of the Board of Scientific Counselors (BSC), Centers for Disease Control and Prevention (CDC), National Center for Environmental Health/Agency for Toxic Substances and Disease Registry(NCEH/ATSDR): Teleconference.

In accordance with section 10(a)(2) of the Federal Advisory Committee Act (Pub. L. 92-463), CDC, NCEH/ATSCR announces the following subcommittee meeting:

Name: Program Peer Review Subcommittee (PPRS).

Time and Date: 10:30 a.m.-12:30 p.m. Eastern Daylight Savings Time, October 16, 2006.

Place: The teleconference will originate at NCEH/ATSDR in Atlanta, Georgia. To participate, dial (877) 315-6535 and enter conference code 383520.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters to be Discussed: A review of the previous meeting; an update on the planning of the Site Specific Activities Peer Review; a discussion of Terrorism Preparedness and Emergency Response Peer Review in February 2007, to include: revisions to the review process, revisions to the questionnaires, areas of expertise required for the review, and nominations for PPRS panel member, chairperson, and peer reviewers; and review the revised schedule for Program Peer Reviews.

Agenda items are subject to change as priorities dictate.

Supplementary Information: This meeting is scheduled to begin at 10:30 a.m. Eastern Daylight Savings Time. To participate, please dial (877) 315-6535 and enter conference code 383520. Public comment period is scheduled for 11:10-11:20 a.m.

For Further Information Contact: Sandra Malcom, Committee Management Specialist, Office of Science,NCEH/ATSDR, MS E-28, 1600 Clifton Road, NE., Atlanta,Georgia 30333, telephone (404)498-0622.

The Director, Management Analysis and Services Office, has been delegated the authority to sign Federal Register notices pertaining to announcements of meetings and other committee management activities for both CDC and NCEH/ATSDR.

Dated: September 25, 2006.
Alvin Hall,
Director, Management Analysis and Services Office, Centers for Disease Control and Prevention.

[FR Doc. E6-16189 Filed 9-29-06; 8:45 am]

BILLING CODE 4163-18-P